DEPARTMENT OF VETERANS AFFAIRS

Advisory Committee Charter Renewals

AGENCY: Department of Veterans Affairs.

ACTION: Notice of Advisory Committee Charter Renewals.

SUMMARY: In accordance with the provisions of the Federal Advisory Committee ACT (FACA) and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
Cooperative Studies Scientific Evaluation Committee | Provides advice on VA cooperative studies, multi-site clinical research activities, and policies related to conducting and managing these efforts and ensures that new and ongoing projects maintain high quality, are based upon scientific merit, and are efficiently and economically conducted | April 21, 2020.
Health Services Research and Development Service Scientific Merit Review Board | Provides advice on the fair and equitable selection of the most meritorious research projects for support by VA research funds; ensures the high quality and mission relevance of VA's legislatively mandated research and development program; advises on the scientific and technical merit, originality, feasibility, and mission relevance of individual research proposals; and advises on the adequacy of protection of human and animal subjects | April 21, 2020.
Joint Biomedical Laboratory Research and Development and Clinical Science Research and Development Services Scientific Merit Review Board | Provides advice on the scientific quality, budget, safety, and mission relevance of investigator-initiated research proposals submitted for VA merit review consideration. The proposals to be reviewed may address research questions within the general area of biomedical and behavioral research or clinical science research. The Board also advises VA research officials on program priorities and policies, as well as administration of VA's intramural program | April 21, 2020.
Rehabilitation Research and Development Service Scientific Merit Review Board | Provides advice on the fair and equitable selection of the most meritorious research projects for support by VA research funds; provides advice for research program officials on program priorities and policies; and ensures that the VA Rehabilitation Research and Development program promotes functional independence and improves the quality of life for impaired and disabled Veterans | April 21, 2020.

The Secretary has also renewed the charter for the following statutorily authorized Federal advisory committee for a two-year period, beginning on the date listed below:

Committee name | Committee description | Charter renewed on
Advisory Committee on Cemeteries and Memorials | Provides advice on the administration of national cemeteries, Soldiers' lots and plots, the selection of cemetery sites, the erection of appropriate memorials and the adequacy of Federal burial benefits | April 21, 2020.
Advisory Committee on Homeless Veterans | Provides advice on benefits and services to Veterans experiencing homelessness | May 6, 2020.
Advisory Committee on Prosthetics and Special-Disabilities Programs | Provides advice on VA prosthetics programs and the rehabilitation research, development, and evaluation of prosthetics technology; assesses VA programs that serve Veterans with spinal cord injury, blindness or vision impairment, loss of or loss of use of extremities, deafness or hearing impairment or other serious incapacities | May 26, 2020.
Advisory Committee on Former Prisoners of War | Provides advice to the Secretary on the administration of benefits for Veterans who are former prisoners of war and the needs of these Veterans, in the areas of compensation, health care and rehabilitation | June 15, 2020.
Geriatrics and Gerontology Advisory Committee | Provides advice on all matters pertaining to geriatrics and gerontology | July 9, 2020.

FOR FURTHER INFORMATION CONTACT: Jeffrey Moragne, Committee Management Office, Department of Veterans Affairs, Advisory Committee Management Office (00AC), 810 Vermont Avenue NW, Washington, DC 20420; telephone 202-266-4660 or 202-714-1578; or via email at Jeffrey.Moragne@va.gov. To view a copy of a VA Federal advisory committee charters, please visit http://www.va.gov/advisory.

Dated: July 22, 2020.
Jelessa M. Burney,
Federal Advisory Committee Management Officer.

[FR Doc. 2020-16256 Filed 7-27-20; 8:45 am]

BILLING CODE P